DEPARTMENT OF HEALTH AND HUMAN SERVICES

Centers for Disease Control and Prevention

Healthcare Infection Control Practices Advisory Committee (HICPAC)

In accordance with section 10(a)(2) of the Federal Advisory Committee Act (Pub. L. 92-463), the Centers for Disease Control and Prevention (CDC) announces the following meeting for the aforementioned committee:

Time and Date: 11 a.m.-12 p.m., July 23, 2009.

Place: The teleconference call will originate at the CDC.

Status: Open to the public. Teleconference access limited only by availability of telephone ports. To participate in the teleconference please dial 1 (800) 779-6036 and enter conference code 6417394.

Purpose: The Committee is charged with providing advice and guidance to the Secretary, HHS; the Assistant Secretary for Health; the Director, CDC; and the Director, National Center for Preparedness, Detection, and Control of Infectious Diseases (NCPDCID), regarding: (1) The practice of hospital infection control; (2) strategies for surveillance, prevention, and control of infections (e.g., nosocomial infections), antimicrobial resistance, and related events in settings where healthcare is provided; and (3) periodic updating of guidelines and other policy statements regarding prevention of healthcare-associated infections and healthcare-related conditions.

Matters To Be Discussed: The agenda will include a follow up discussion of CDC's Interim Guidance for Infection Control for Care of Patients with Confirmed or Suspected Novel Influenza A (H1N1) Virus Infection in a Healthcare Setting.

Agenda items are subject to change as priorities dictate. This notice is being published less than 15 days prior to the meeting due to the public health emergency declared on April 26, 2009. There is a critical need for this committee to deliberate and discuss urgent matters related to the H1N1 virus, and be actively engaged in the national preparedness and response efforts as dictated by circumstances and events.

Contact Person For More Information: Wendy Vance, HICPAC, Division of Healthcare Quality Promotion, NCPDCID, CDC, 1600 Clifton Road, NE., Mailstop D-10, Atlanta, Georgia 30333 Telephone (404) 639-2891 or HICPAC@cdc.gov.

The Director, Management Analysis and Services Office, has been delegated the authority to sign Federal Register notices pertaining to announcements of meetings and other committee management activities, for both CDC and the Agency for Toxic Substances and Disease Registry.

Dated: July 17, 2009.
Elaine L. Baker,
Director, Management Analysis and Services Office,Centers for Disease Control and Prevention (CDC).

[FR Doc. E9-17514 Filed 7-21-09; 8:45 am]

BILLING CODE 4163-18-P